AGENCY FOR INTERNATIONAL DEVELOPMENT

USAID Information Collection on COVID-19 Global Response and Recovery Implementation Plan

AGENCY: United States Agency for International Development (USAID), COVID-19 Task Force.

ACTION: Notice of emergency OMB approval.

SUMMARY: In accordance with the emergency review procedures of the Paperwork Reduction Act of 1995 (PRA), the United States Agency for International Development (USAID), is announcing that on July 26, 2021, the Office of Management and Budget (OMB) granted emergency approval of a new information collection to inform technical approaches to implementing USAID's COVID-19 Implementation Plan. This emergency approval is valid until January, 2022.

DATES: USAID plans initially to seek information between August 1 and August 13, 2021.

FOR FURTHER INFORMATION CONTACT: Requests for additional information should be directed to Lisa Schechtman, lschechtman@usaid.gov.

SUPPLEMENTARY INFORMATION: Pursuant to 5 CFR 1320.13, the Agency submitted a request for emergency approval of a new information collection on July 23, 2021, which was approved by OMB on July 26, 2021. The collection will request input from select experts on implementation of the five objectives of the U.S. Global COVID-19 Response and Recovery Framework, and USAID's lines of efforts to help accomplish these objectives. Information will be requested of non-governmental organizations and private sector entities through focus-group discussions.

Description of Proposed Use of Information

The information will be collected via small focus groups, and will be used by the USAID COVID-19 Task Force and technical bureaus to improve the technical assistance, global leadership, and guidance USAID provides to implementing partners, the InterAgency, and Missions globally. This will enable more focused, efficient, and effective coordination and implementation of the USAID COVID-19 Implementation Plan. Examples of use of similar information from past similar information collections undertaken by USAID include guidance documents on technical issues, alignment with national plans and strategies, or incorporation of key issues in Country Development Cooperation Strategies. Some materials produced utilizing information collected through this request may be made available to the public.

Time Burden

OMB's approval enables USAID to engage a total of 250 individual respondents. Each respondent will be requested to provide one hour of time. As such, the total estimated time burden of this proposed information collection request is 250 hours.

Ashley Boccuzzi,
Coordination Advisor, USAID COVID-19 Task Force.

[FR Doc. 2021-16646 Filed 8-4-21; 8:45 am]

BILLING CODE P